DEPARTMENT OF THE INTERIOR

National Park Service

[N6461; NPS-WASO-NAGPRA-NPS0040882; PPWOCRADN0-PCU00RP14.R50000]

Notice of Inventory Completion: University of Alabama Museums, Tuscaloosa, AL

AGENCY: National Park Service, Interior.

ACTION: Notice.

SUMMARY: In accordance with the Native American Graves Protection and Repatriation Act (NAGPRA), the University of Alabama Museums has completed an inventory of human remains and associated funerary objects and has determined that there is a cultural affiliation between the human remains and associated funerary objects and Indian Tribes or Native Hawaiian organizations in this notice.

DATES: Repatriation of the human remains and associated funerary objects in this notice may occur on or after September 22, 2025.

ADDRESSES: Send written requests for repatriation of the human remains and associated funerary objects in this notice to Dr. William Bomar, Executive Director, University of Alabama Museums, Box 870340, Tuscaloosa, AL 35487, email bbomar@ua.edu.

SUPPLEMENTARY INFORMATION: This notice is published as part of the National Park Service's administrative responsibilities under NAGPRA. The determinations in this notice are the sole responsibility of the University of Alabama Museums, and additional information on the determinations in this notice, including the results of consultation, can be found in its inventory or related records. The National Park Service is not responsible for the determinations in this notice.

Abstract of Information Available

Human remains representing, at least, 40 individuals have been identified. The 17 lots of associated funerary objects are charcoal, botanical, lithic, rock, groundstone, soapstone bowl, shell, and faunal bone.

Lamar County

In 1966, human remains representing, at minimum, one individual, was removed from site 1Lr34, Stucks Bluff Site. Site 1Lr34 was recorded by Margaret Clayton of the University of Alabama. The site was excavated by the University of Alabama and the Alabama Archaeological Society in 1966. The site is a small bluff shelter in Northeast Lamar County. The shelter floor is only slightly above the Buttahatchee and was subject to frequent floods. Excavations encountered mixed Archaic and Woodland materials in the upper two strata. Below these strata, a layer of culturally sterile sand sealed a lower Middle to late Archaic stratum. The site appears to have never been intensively occupied. No known individuals are identified. The five lots of associated funerary objects include charcoal, nutshell, lithic, rock, and groundstone.

Madison County

In 1993, human remains representing, at minimum, 12 individuals, were removed from site 1Ma307, the Ditto Landing (Ditto 3) Site. Site 1Ma307 was recorded by Chris McLaughlin. The site appears to be a Late Woodland or Early Mississippian village site. Plowing has intruded several areas of midden or pits containing shell which has been scattered on the surface by cultivation. Creek stamped and shell tempered pottery are present. Small triangular points and drill fragments were collected. Phase II testing and excavations of a portion of the site were conducted by Carey Oakley of the University of Alabama, Tuscaloosa, Alabama during October of 1993. Excavation of features was accomplished after mechanical removal of the plowzone. The site was found to be multicomponent with features associated with the Middle Archaic, Late Archaic, Middle Woodland, and Late Woodland. A total of 29 features were excavated, including seven burials. Many of the features appeared to be deep storage pits. No known individuals are identified. The 10 lots of associated funerary objects include “all material”, seed, and shell.

Between 1970 and 1988, human remains representing, at minimum, one individual, was removed from site 1Ma329, the Shelta Cave Site. Site 1Ma329 was recorded by Richard Cobb of Florence, Alabama. Shelta Cave was owned for about 20 years by the National Speleological Society. The cave was commercialized around 1888 and a certain amount of construction, largely consisting of trail building, was carried out inside the cave. A series of shallow tests were made on April 10, 1988, in multiple areas. Fairly heavy scattered charcoal was observed in each test, but no lithics, shell, or bone was present. The only probable artifact recovered was a medium-sized hammerstone with some probably wear marks. This was found down the slope from the east entrance and likely rolled down from the surface. Bill Torode found possible cranial fragments in the same general area in the 1970s, but these had been removed by unknown persons in later years. No known individuals are identified. No associated funerary objects are present.

In 1977, human remains representing, at minimum, one individual, was removed from site 1Ma55. Site 1Ma55 consists of a thin scatter of lithic debris contained within a plow zone context. The sparse density of material would imply that the area had been intermittently occupied during the Archaic/Woodland period and probably represents a hunting station. No known individuals are identified. No associated funerary objects are present.

Between 1962 and 2007, human remains representing, at minimum, one individual, was removed from site 1Ma82, Cambron Site 193. Site 1Ma82 was recorded by Charles Hubbert of the University of Alabama. The site was entered into the file based on a site form from James Cambron. Site 1Ma338 was recorded by Jeff Thomson, Owens Crossroads, Alabama. At one end of the site one Clovis, one Greenbriar, and several Kirks were found. A midden deposit found is mostly attributed to the Late Archaic and Woodland. Material on the northwest end is very sparse, but two Kirks were recovered. An update for the site was submitted in August of 2007. Site 1Ma82 was combined with 1Ma338 as a result of OAR Project 07-195. No known individuals are identified. No associated funerary objects are present.

Marion County

In 2009, human remains representing, at minimum, one individual, was removed from site 1Mr305, EM/RS2/3 Site. Site 1Mr305 was submitted by Kareen Hawsey of the Office of Archaeological Research in March of 2009. Site 1Mr305 was originally identified in 2007 by R. Lance Richardson at the Office of Archaeological Research. This site consists of two adjacent bluff shelters and a small terrace on the northern side of a steep slope overlooking an intermittent drainage. The easternmost shelter has talus rockfall over almost its entire floor, while the western shelter and terrace are relatively clear of rockfall. A Phase II program was conducted in January of 2008 at site 1Mr305. One sandstone lined pit, and another possible pit were located in the western bluff shelter. Soil profiles across the site indicate cultural and natural deposits also present at the site. The diverse artifact assemblage recovered at the site indicates that a wide variety of activities was conducted there during the early Archaic through the Late Woodland periods. No known individuals are identified. No associated funerary objects are present.

Morgan County

Between 1972 and 2021, human remains representing, at minimum, four individuals, were removed from site 1Mg76, Ed Smith Cave Site. Site 1Mg76 was recorded by John Walthall of the University of Alabama. The site consists of a Copena burial cave. The site was revisited by Charles Hubbert of the University of Alabama in September of 1991. Ben Hoksbergen, Gretchen Eggimen, Scott Shaw, and Stacye Hathorn revisited site 1Mg76 on behalf of the Archaeological Conservancy on August 7, 2021. Human bone fragments and at least one copper bead were noted. Mineralized bone fragments were also noted, possibly indicating a Pleistocene component. All Prehistoric material was scattered and was most likely deposited in the cave through a sink or pit cave entrance that has since been blocked. No known individuals are identified. The one lot of associated funerary objects include lithic.

In 1941, human remains representing, at minimum, one individual, was removed from site 1Mg72, the Higdon Site. Site 1Mg72 was recorded by Walter Jones of the University of Alabama. The site consists of a small, low, earthen mound. The site contained superficial deposits of salt brine, including borax and potash. Human remains were in fragmentary condition; features were limited largely to rough stone groups. Atlatl weights and projectile points were also found as part of the mound fill. No known individuals are identified. No associated funerary objects are present.

In 1997, one associated funerary object, was removed from Burial 1 at site 1Mg300. Site 1Mg300 was originally recorded by Charles Hubbert of the University of Alabama. The site consists of lithic debris and fire cracked rock noted and recovered from the beach area around three sides of the site. Much of the site is located off TVA property and could not be fully examined. The site was revisited in 1997 by Carey Oakley of the University of Alabama. The site was to be destroyed by plant construction. Portions of the plow zone were removed to search for preserved features. None were found in the stripped area, but a flexed human burial was encountered in the excavation of a nearby perc test. Monitoring of the remaining soil removal was recommended. Four additional features were observed during monitoring. The features contained fire cracked rock, mussel shell, and very few artifacts. Soot from a steatite vessel associated with the burial was dated to 2590+/− 60 B.P. No ancestral remains are present. The one lot of associated funerary objects include a soapstone bowl.

Colbert County

Between 1961 and 1983, human remains representing, at minimum, two individuals, were removed from site 1Ct127. Site 1Ct127 was recorded by Horace Holland of Leighton, Alabama. A site called 1CtC127, probably in the vicinity of Stanfield-Worley, was also tested during 1961. No site form was completed for that site and so the number was reused. There is no map or other information on that site except a few excavation notes discovered in the county file during the 1983 site file revision project. That site had not been entered into the file. No known individuals are identified. No associated funerary objects are present.

In 1992, human remains representing, at minimum, 11 individuals, from an unknown site were removed from Leighton Public Library and transferred to the University of Alabama. The Alabama Museum of Natural History received the ancestral remains in February of 1992 from a Mrs. Layton. There is a letter addressed to Mrs. Layton from the Alabama Museum of Natural History director at the time Dr. Doug Jones. No known individuals are identified. No associated funerary objects are present.

Limestone County

At an unknown date, human remains representing, at minimum, one individual, was removed from site LiA, Limestone County, Alabama. There is no information available currently concerning geographical location or acquisition history for this individual. The only information in our collection is the label on the box housing the individual, which is LiA, and a label on the human remains themselves indicating site LiA. No known individuals are identified. No associated funerary objects are present.

Perry County (Tennessee)

At an unknown date, human remains representing, at minimum, four individuals, were removed from site 40Py87. The Tennessee Department of Transportation excavated thousands of prehistoric artifacts along the banks of a river in Perry County, Tennessee. The archaeology project began with a set of design plans for a new structure that would ultimately replace an outdated iron truss bridge. Federal and state regulations require TDOT to preserve archaeological sites found within the path of a construction project—making every effort to avoid sites when possible or record sites when unavoidable. The Perry County site was unavoidable, and TDOT archaeologists excavated as a means of mitigation. Each uncovered artifact, spanning Paleoindian, Archaic, Woodland, and Mississippian periods, was carefully and meticulously washed, sorted, and catalogued for comparative analysis and reporting. No known individuals are identified. No associated funerary objects are present.

Cultural Affiliation

Based on the information available and the results of consultation, cultural affiliation is reasonably identified by the geographical location or acquisition history of the human remains and associated funerary objects described in this notice.

Determinations

The University of Alabama Museums has determined that:

• The human remains described in this notice represent the physical remains of 40 individuals of Native American ancestry.

• The 17 lots of objects described in this notice are reasonably believed to have been placed intentionally with or near individual human remains at the time of death or later as part of the death rite or ceremony.

• There is a connection between the human remains and associated funerary objects described as Colbert County, Limestone County, and Perry County (Tennessee) in this notice and the Cherokee Nation; Eastern Band of Cherokee Indians; The Chickasaw Nation; and The Muscogee (Creek) Nation.

• There is a connection between the human remains and associated funerary objects described as Lamar County, Madison County, Morgan County, and Marion County in this notice and The Chickasaw Nation and The Muscogee (Creek) Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after September 22, 2025. If competing requests for repatriation are received, the University of Alabama Museums must determine the most appropriate requestor prior to repatriation. Requests for joint repatriation of the human remains and associated funerary objects are considered a single request and not competing requests. The University of Alabama Museums is responsible for sending a copy of this notice to the Indian Tribes and Native Hawaiian organizations identified in this notice.

Authority: Native American Graves Protection and Repatriation Act, 25 U.S.C. 3003, and the implementing regulations, 43 CFR 10.10.

Dated: August 13, 2025.
Melanie O'Brien,
Manager, National NAGPRA Program.

[FR Doc. 2025-16120 Filed 8-21-25; 8:45 am]

BILLING CODE 4312-52-P